DEPARTMENT OF DEFENSE

Department of the Navy

Notice of Proposed Information Collection; Commander, Navy Recruiting Command

AGENCY: Department of the Navy, DOD.

ACTION: Notice.

SUMMARY: The Commander, Navy Recruiting Command announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 30, 2002.

ADDRESSES: Send written comments and recommendations on the proposed information collection to Navy Recruiting Command (Code 3123), 5722 Integrity Drive, Millington, TN 38054-5057.

FOR FURTHER INFORMATION CONTACT: To request additional information or to obtain a copy of the proposal and associated collection instruments, contact Mr. Ken Saxion at (901) 874-9045.

SUPPLEMENTARY INFORMATION: Form Title and OMB Number: United States Navy Illicit Behavior Screening Certificate; OMB Control No. (None).

Needs and Uses: Used by the Navy Recruiting Command to assess an applicant's history of alcohol abuse, drug abuse, or other illicit behavior in determining a person's qualifications to enter the military service. An applicant with a history of drug or alcohol abuse, or behavior that violates the civil rights of others is undesirable for military service. The collection of this information is needed in order to make a fair and reasonable enlistment eligibility determination of an applicant.

Affected Public: Individuals or households.

Annual Burden Hours: 13,000.

Number of Respondents: 65,000.

Responses Per Respondent: 1.

Average Burden per Response: 12 minutes.

Frequency: On occasion.

(Authority: 44 U.S.C. Sec. 3506(c)(2)(A))

Dated: February 19, 2002.
T.J. Welsh,
Lieutenant Commander, Judge Advocate General's Corps, U.S. Navy, Federal Register Liaison Officer.

[FR Doc. 02-4869 Filed 2-28-02; 8:45 am]

BILLING CODE 3810-FF-P